ENVIRONMENTAL PROTECTION AGENCY

[FRL 9925-07-OA]

National Environmental Education Advisory Council; Notice of Meeting

AGENCY: Environmental Protection Agency (EPA).

ACTION: Notice of meeting.

SUMMARY: Under the Federal Advisory Committee Act, the Environmental Protection Agency (EPA) gives notice of a series of teleconference meetings of the National Environmental Education Advisory Council (NEEAC). The NEEAC was created by Congress to advise, consult with, and make recommendations to the Administrator of the Environmental Protection Agency (EPA) on matters related to activities, functions and policies of EPA under the National Environmental Education Act (the Act). 20 U.S.C. 5508(b).The purpose of this teleconference(s) is to discuss specific topics of relevance for consideration by the council in order to provide advice and insights to the Agency on environmental education.

DATES: The National Environmental Education Advisory Council will hold a public teleconference on Friday, April 17, 2015, from 1:00 p.m. until 3:00 p.m. Eastern Daylight Time.

FOR FURTHER INFORMATION CONTACT: Javier Araujo, Designated Federal Officer, araujo.javier@epa.gov, 202-564-2642, U.S. EPA, Office of Environmental Education, William Jefferson Clinton North Room, 1426, 1200 Pennsylvania Avenue NW., Washington, DC 20460.

SUPPLEMENTARY INFORMATION: Members of the public wishing to gain access to the teleconference, make brief oral comments, or provide a written statement to the NEEAC must contact Javier Araujo, Designated Federal Officer, at araujo.javier@epa.gov or 202-564-2642 by 10 business days prior to each regularly scheduled meeting. Meeting Access: For information on access or services for individuals with disabilities or to request accommodations, please contact Javier Araujo at araujo.javier@epa.gov or 202-564-2642, preferably at least 10 days prior to the meeting, to give EPA as much time as possible to process your request.

Dated: March 17, 2015.
Sarah Sowell,
Acting Deputy Director, Office of Environmental Education.
Dated: March 17, 2015.
Javier Araujo,
(NEEAC) Designated Federal Officer.

[FR Doc. 2015-06581 Filed 3-20-15; 8:45 am]

BILLING CODE 6560-50-P